COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete a service previously furnished by such agencies.

COMMENTS MUST BE RECEIVED ON OR BEFORE: September 29, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Binder, Looseleaf

7510-01-368-3486.

7510-01-412-6338.

NPA: South Texas Lighthouse for the Blind, Corpus Christi, Texas.

Contract Activity: Office Supplies & Paper Products Acquisition Center, New York, NY.

Product/NSN: Dual Head Stethoscope

6515-00-NIB-0115.

NPA: Central Association for the Blind & Visually Impaired, Utica, New York.

Contract Activity: Department of Veterans Affairs Acquisition Center, Hines, Illinois.

Product/NSN: Easel, Wallboard, Magnetic

7520-00-NIB-1368.

7520-00-NIB-1369.

7520-00-NIB-1371.

NPA: The Lighthouse for the Blind, Inc., Seattle, Washington.

Contract Activity: Office Supplies & Paper Products Acquisition Center, New York, NY.

Product/NSN: Holder, Label, w/slit on a spool

9905-05-000-7417.

NPA: ODC Government Services, Inc., Wisconsin Rapids, Wisconsin.

Contract Activity: U.S. Postal Service, Topeka, Kansas.

Services

Service Type/Location: Grounds Maintenance, U.S. Department of Agriculture, Phoenix, Arizona.

NPA: The Centers for Habilitation/TCH, Tempe, Arizona.

Contract Activity: USDA, Agriculture Research Service, REE, PWA, LSS, Phoenix, Arizona.

Service Type/Location: Janitorial/Custodial, Environmental Protection Agency, Standard Chlorine Site, Delaware City, Delaware.

NPA: The Chimes, Inc., Baltimore, Maryland.

Contract Activity: Environmental Protection Agency, Philadelphia, Pennsylvania.

Service Type/Location: Janitorial/Custodial, Stewart Newburgh USARC, New Windsor, New York.

NPA: Occupations, Inc., Middletown, New York.

Contract Activity: 77th Regional Support Command (DOC), Fort Totten, New York.

Deletions

I certify that the following action will not have a significant impact on a substantial number of small entities. The major factors considered for this certification were:

1. If approved, the action will not result in any additional reporting, recordkeeping or other compliance requirements for small entities other than the small organizations that will furnish the service to the Government.

2. If approved, the action will result in authorizing small entities to furnish the service to the Government.

3. There are no known regulatory alternatives which would accomplish the objectives of the Javits-Wagner-O'Day Act (41 U.S.C. 46-48c) in connection with the service proposed for deletion from the Procurement List.

The following service is proposed for deletion from the Procurement List:

Service

Service Type/Location: Janitorial/Custodial, U.S. Federal Building, Minneapolis, Minnesota.

NPA: Tasks Unlimited, Inc., Minneapolis, Minnesota.

Contract Activity: GSA, Public Buildings Service.

G. John Heyer,
General Counsel.

[FR Doc. 02-22212 Filed 8-29-02; 8:45 am]

BILLING CODE 6353-01-P